DEPARTMENT OF COMMERCE

International Trade Administration

[A-560-805, C-560-806]

Certain Cut-To-Length Carbon-Quality Steel Plate Products From Indonesia: Notice of Rescission of Antidumping and Countervailing Duty New Shipper Reviews

AGENCY: Import Administration, International Trade Administration, Department of Commerce.

ACTION: Notice of Rescission of New Shipper Antidumping and Countervailing Duty New Shipper Reviews.

SUMMARY: In response to a timely request from the respondent, PT. Gunung Raja Paksi (“Gunung”), on March 27, 2001, the Department of Commerce published a notice of initiation of new shipper reviews of the antidumping and countervailing duty orders on certain cut-to-length carbon-quality steel plate products (“CTL Plate”) from Indonesia with respect to Gunung, covering the period February 1, 2000, through January 31, 2001, and January 1, 2000, through December 31, 2000, respectively. See Initiation of Antidumping and Countervailing Duty New Shipper Reviews, 66 FR 16655—16657 (March 27, 2001). On May 2, 2001, Gunung timely withdrew its request for these reviews.

In accordance with 19 CFR 351.213(d)(1), the Department of Commerce is now rescinding these reviews because Gunung has withdrawn its request for these reviews and no other interested party had requested the reviews.

EFFECTIVE DATE: June 25, 2001.

FOR FURTHER INFORMATION CONTACT: Barbara Wojcik-Betancourt or Brian Smith, Import Administration, International Trade Administration, U.S. Department of Commerce, 14th Street and Constitution Avenue, NW., Washington, DC 20230; telephone: (202) 482-0629 or (202) 482-1766, respectively. Stephanie Moore or Tipten Troidl, Import Administration, International Trade Administration, U.S. Department of Commerce, 14th Street and Constitution Avenue, NW., Washington, DC 20230; telephone: (202) 482-3692 or (202) 482-1767, respectively, (Antidumping Duty Order), (Countervailing Duty Order).

SUPPLEMENTARY INFORMATION:

Applicable Statute

Unless otherwise indicated, all citations to the Tariff Act of 1930, as amended (“the Act”), are references to the provisions effective January 1, 1995, the effective date of the amendments made to the Act by the Uruguay Round Agreements Act. In addition, unless otherwise indicated, all citations to the Department of Commerce's (“the Department's”) regulations are to 19 CFR Part 351 (2000).

Background

On February 1, 2001, the respondent, Gunung, requested new shipper reviews of the above-referenced antidumping and countervailing duty orders for the periods from February 1, 2000, through January 31, 2001, and January 1, 2000, through December 31, 2000, respectively. On March 27, 2001, the Department published a notice of initiation of new shipper reviews of the antidumping and countervailing duty orders on CTL Plate from Indonesia with respect to Gunung (66 FR 16655-16657).

Rescission of Reviews

On May 2, 2001, the respondent, Gunung, timely withdrew its request for reviews. Section 19 CFR 351.214(f) of the Department's regulations stipulates that the Secretary may permit a party that requests a review to withdraw the request no later than 60 days after the date of publication of the notice of initiation of the requested review. In this case, the respondent has withdrawn its request for the reviews within the 60-day period. No other interested party requested a review and we have received no other submissions regarding Gunung's withdrawal of its request for the reviews. Therefore, we are rescinding these reviews of the antidumping and countervailing duty orders on CTL Plate from Indonesia.

This notice is published in accordance with section 751 of the Act and 19 CFR 351.214(f).

Dated: June 15, 2001.
Richard W. Moreland,
Deputy Assistant Secretary for Import Administration.

[FR Doc. 01-15893 Filed 6-22-01; 8:45 am]

BILLING CODE 3510-DS-P